DEPARTMENT OF COMMERCE

International Trade Administration

[A-552-802]

Certain Frozen Warmwater Shrimp From the Socialist Republic of Vietnam: Final Results of Changed Circumstances Review

AGENCY: Enforcement and Compliance, formerly Import Administration, International Trade Administration, Department of Commerce.

SUMMARY: On January 10, 2014, the Department of Commerce (“Department”) published its notice of initiation and preliminary results of a changed circumstances review (“CCR”) of the antidumping duty order on Certain Frozen Warmwater Shrimp (“shrimp”) from the Socialist Republic of Vietnam (“Vietnam”).¹ The Department preliminarily determined that Gallant Dachan Seafood Co., Ltd. (“Dachan”) is the successor-in-interest to Gallant Ocean (Quang Ngai), Co. Ltd. (“Quang Ngai”). We invited parties to comment. No parties submitted comments, and for these final results we continue to find that Dachan is the successor-in-interest to Quang Ngai.

¹ See Certain Frozen Warmwater Shrimp From the Socialist Republic of Vietnam: Initiation and Preliminary Results of Changed Circumstances Review, 79 FR 1824 (January 10, 2014) (“Preliminary Results”).

DATES: Effective Date: February 28, 2014.

FOR FURTHER INFORMATION CONTACT: Frances Veith, Office V, Enforcement and Compliance, International Trade Administration, U.S. Department of Commerce, 14th Street and Constitution Avenue NW., Washington, DC 20230; telephone: at (202) 482-4295.

SUPPLEMENTARY INFORMATION:

Background

On October 31, 2013,² Dachan requested that the Department conduct a CCR to determine whether it is the successor-in-interest to Quang Ngai, for purposes of determining antidumping duties due as a result of the Order.³ On January 10, 2014, the Department initiated the CCR of Dachan and preliminarily determined that Dachan is the successor-in-interest to Quang Ngai.⁴ In the Preliminary Results, the Department invited interested parties to comment.⁵ We received no comments or requests for a hearing from interested parties.

² This changed circumstances review was originally filed on September 30, 2013, within the seventh administrative review for frozen shrimp from Vietnam. Pursuant to instructions from the Department, Gallant Ocean re-filed this CCR on October 31, 2013.

³ See Letter from Gallant Ocean dated October 31, 2013, at 3.

⁴ See Preliminary Results, 79 FR at 1825.

⁵ Id., 79 FR at 1826.

Scope of the Order

The merchandise subject to the order is certain frozen warmwater shrimp. The product is currently classified under the following Harmonized Tariff Schedule of the United States item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. The written description of the scope of the order is dispositive.⁶

⁶ For a full description of the scope of the order, see the Department's memorandum to the file titled “Placing on the Record: Issues and Decision Memorandum from the review covering the period February 1, 2011, through January 31, 2012,” (February 12, 2014).

Final Results of Changed Circumstances Review

Because no parties have submitted comments opposing the Department's preliminary determination, and because there is no other information or evidence on the record that calls into question the Preliminary Results, the Department determines that Dachan is the successor-in-interest to Quang Ngai for the purpose of determining antidumping duty liability.

Instructions to U.S. Customs and Border Protection

As a result of this determination, we find that Dachan should receive the cash deposit rate previously assigned to Quang Ngai in the most recently completed review of the antidumping duty order on shrimp from Vietnam. Consequently, the Department will instruct U.S Customs and Border Protection to collect estimated antidumping duties for all shipments of subject merchandise exported by Dachan and entered, or withdrawn from warehouse, for consumption on or after the publication date of this notice in the Federal Register at the current cash deposit rate for Quang Ngai, which is 0.00 percent.⁷ This cash deposit requirement shall remain in effect until further notice.

⁷ See Certain Frozen Warmwater Shrimp From the Socialist Republic of Vietnam: Final Results of Antidumping Duty Administrative Review, 2011-2012, 78 FR 56211 (September 12, 2013).

Notification

This notice serves as a reminder to parties subject to administrative protective order (“APO”) of their responsibility concerning the disposition of proprietary information disclosed under APO in accordance with 19 CFR 351.306. Timely written notification of the return/destruction of APO materials or conversion to judicial protective order is hereby requested. Failure to comply with the regulations and terms of an APO is a sanctionable violation.

This notice is published in accordance with sections 751(b)(1) and 777(i) of the Tariff Act of 1930, as amended, and 19 CFR 351.216.

Dated: February 24, 2014.
Paul Piquado,
Assistant Secretary for Enforcement and Compliance.

[FR Doc. 2014-04431 Filed 2-27-14; 8:45 am]

BILLING CODE 3510-DS-P